DEPARTMENT OF COMMERCE

International Trade Administration

[A-201-845/C-201-846]

Antidumping or Countervailing Duty Order, Finding, or Suspended Investigation; Advance Notification of Sunset Review; Correction

AGENCY: Enforcement and Compliance, International Trade Administration, Department of Commerce.

ACTION: Notice; correction.

SUMMARY: The U.S. Department of Commerce (Commerce) published notice in the Federal Register of February 3, 2025, in which Commerce provided notice of Sunset Reviews that are scheduled for initiation in March 2025. This notice misidentified the country for the antidumping duty (AD) order on Sugar from Mexico (A-201-845) as the People's Republic of China (China). This notice also inadvertently listed the AD and countervailing duty (CVD) orders on Sugar from Mexico under the “Antidumping Duty Proceedings” and “Countervailing Duty Proceedings” column headers. This notice also incorrectly stated that no sunset review of suspended investigations is scheduled for initiation in March 2025.

FOR FURTHER INFORMATION CONTACT: Terri Monroe, AD/CVD Operations, Customs Liaison Unit, Enforcement and Compliance, International Trade Administration, U.S. Department of Commerce, 1401 Constitution Avenue NW, Washington, DC 20230; telephone: (202) 482-1384.

SUPPLEMENTARY INFORMATION:

Background

On February 3, 2025, Commerce published in the Federal Register the Advance Notice of Sunset review.¹ In this notice, we misidentified the country for the AD order on Sugar from Mexico as China. We also inadvertently listed the AD and CVD orders on Sugar from Mexico under the “Antidumping Duty Proceedings” and “Countervailing Duty Proceedings” column headers. We also incorrectly stated that no sunset review of suspended investigations is scheduled for initiation in March 2025.

¹ See Antidumping or Countervailing Duty Order, Finding, or Suspended Investigation; Advance Notification of Sunset Review, 90 FR 8789 (February 3, 2025).

Correction

In the Federal Register of February 3, 2025, in FR Doc 2025-02120 on page 8789, (1) correct the country reference for the Sugar from Mexico AD order as follows: Sugar from Mexico, A-201-845 (2nd Review); (2) remove references to the Sugar from Mexico AD and CVD orders from the “Antidumping Duty Proceedings” and “Countervailing Duty Proceedings” column headers and instead list these orders under the “Suspended Investigations” header; and (3) delete the following sentence under the “Suspended Investigations” header: “No Sunset Review of suspended investigations is scheduled for initiation in March 2025.” The revised table should read as follows:

| Department contact
Antidumping Duty Proceedings
Small Diameter Graphite Electrodes from China, A-570-929 (3rd Review) | Mary Kolberg, (202) 482-1785.
Wooden Cabinets and Vanities and Components Thereof from China, A-570-106 (1st Review) | Mary Kolberg, (202) 482-1785.
Countervailing Duty Proceedings
Wooden Cabinets and Vanities and Components Thereof from China, C-570-107 (1st Review) | Mary Kolberg, (202) 482-1785.
Suspended Investigations
Sugar from Mexico, A-201-845 (2nd Review) | Jill Buckles, (202) 482-6230.
Sugar from Mexico, C-201-846 (2nd Review) | Jill Buckles, (202) 482-6230.

Notification to Interested Parties

This notice is not required by statute but is published as a service to the international trading community.

Dated: February 11, 2025.
Scot Fullerton,
Acting Deputy Assistant Secretary for Antidumping and Countervailing Duty Operations.

[FR Doc. 2025-02650 Filed 2-13-25; 8:45 am]

BILLING CODE 3510-DS-P